ENVIRONMENTAL PROTECTION AGENCY

40 CFR Parts 52 and 70

[EPA-R07-OAR-2013-0483; FRL-9905- 9905-21-Region 7]

Approval and Promulgation of Implementation Plans and Title V Operating Permit Program; State of Iowa

AGENCY: Environmental Protection Agency (EPA).

ACTION: Direct final rule.

SUMMARY: The Environmental Protection Agency (EPA) is approving revisions to the State Implementation Plan (SIP) for the state of Iowa. These revisions amend the Iowa air quality rules to eliminate state-only emissions testing procedures and adopt Federal methods; to reduce notification time for portable plant relocations, and allow electronic submittals of notifications; to update air quality definitions to be consistent with federal definitions, and to place into rule the specific procedures for conducting emissions testing.

EPA is also approving revisions to the Iowa Title V Operating Permits Program to revise the definition of “EPA Reference Method,” and to adopt by reference the revised Title V Periodic Monitoring Guidance.

DATES: This direct final rule will be effective March 17, 2014, without further notice, unless EPA receives adverse comment by February 18, 2014, If EPA receives adverse comment, we will publish a timely withdrawal of the direct final rule in the Federal Register informing the public that the rule will not take effect.

ADDRESSES: Submit your comments, identified by Docket ID No. EPA-R07-OAR-2013-0483, by one of the following methods:

1. www.regulations.gov. Follow the on-line instructions for submitting comments.

2. Email: Algoe-eakin.amy@epa.gov.

3. Mail or Hand Delivery: Amy Algoe-Eakin, Environmental Protection Agency, Air Planning and Development Branch, 11201 Renner Boulevard, Lenexa, Kansas 66219.

Instructions: Direct your comments to Docket ID No. EPA-R07-OAR-2013-0483. EPA's policy is that all comments received will be included in the public docket without change and may be made available online at www.regulations.gov, including any personal information provided, unless the comment includes information claimed to be Confidential Business Information (CBI) or other information whose disclosure is restricted by statute. Do not submit through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, i.e., CBI or other information whose disclosure is restricted by statute. Certain other material, such as copyrighted material, will be publicly available only in hard copy form. Publicly available docket materials are available either electronically in www.regulations.gov or in hard copy at the Environmental Protection Agency, Air Planning and Development Branch, 11201 Renner Boulevard, Lenexa, Kansas 66219. The Regional Office's official hours of business are Monday through Friday, 8:00 to 4:30 excluding legal holidays. The interested persons wanting to examine these documents should make an appointment with the office at least 24 hours in advance.

FOR FURTHER INFORMATION CONTACT: Amy Algoe-Eakin, Environmental Protection Agency, Air Planning and Development Branch, 11201 Renner Boulevard, Lenexa, Kansas 66219 at (913) 551-7942, or by email at Algoe-eakin.amy@epa.gov.

SUPPLEMENTARY INFORMATION: Throughout this document “we,” “us,” or “our” refer to EPA. This section provides additional information by addressing the following:

I. What is being addressed in this document?

II. Have the requirements for approval of a SIP revision been met?

III. What action is EPA taking?

I. What is being addressed in this document?

The Iowa Department of Natural Resources (IDNR) is requesting EPA action on including revisions to the Iowa State Implementation Plan (SIP) and the Iowa Title V Program. IDNR has requested the SIP be amended to include revisions made to Chapter 20 “Scope of Title- Definitions- Forms- Rules of Practice,” Chapter 22, “Controlling Pollution,” and Chapter 25 “Measurement of Emissions” in the Iowa Administrative Code. The purpose of the rules is to provide consistency between the state and Federal regulations.

II. Have the requirements for approval of a SIP and Title V revision been met?

The state submittal has met the public notice requirements for SIP submissions in accordance with 40 CFR 51.102. The submittal also satisfied the completeness criteria of 40 CFR part 51, appendix V and the Title V Operating program.

III. What action is EPA taking?

EPA is taking direct final action to approve SIP revisions to amend the Iowa air quality rules, to eliminate state-only emissions testing procedures and adopt Federal methods; to reduce notification time for portable plant relocations, and allow electronic submittals of notifications; to update air quality definitions to be consistent with federal definitions, and to place into rule the specific procedures for conducting emissions testing.

EPA is also taking direct final action to approve the Iowa Title V Operating Permits Program to revise the definition of “EPA Reference Method,” and to adopt by reference the revised Title V Periodic Monitoring Guidance. EPA received the request from the State to adopt revisions to the local air agency rules into the SIP on November 26, 2012. The revisions were adopted by the Iowa Environmental Protection Commission on August 21, 2012, and became effective on October 24, 2012.

EPA is taking direct final action to approve the following: (1) Amending the definitions to rule 567-20.2(455B) include revisions to the definitions of “EPA reference method”, particulate matter”, “standard condition”, and “total suspended particulate” to match Federal regulations; (2) amending the definitions to rule 567-20.2(455B) to include the adoption of the definition of PM2.5. This definition is consistent with Federal regulations (see 40 CFR Part 51, Subparts A and Z and Appendix M, and 40 CFR Part 58, Subpart A; (3) amending definitions to rule 567-22.3(3) “f” which contain the provisions for portable plant relocations; (4) amending rule 567-22.100(455B) to revise the definition of “EPA reference method” for the Title V Operating Permit Program. The changes to this definition are identical to the revisions for the definition of “EPA reference method” in the SIP; (5) amending subrule 22.108(3) to adopt by reference a revised definition of the Title V “Periodic Monitoring Guidance;” and (6) amending subrule 25.1(9) to revise the methods and procedures to evaluate compliance with emission limitations or permit conditions. It also rescinds the Compliance Sampling Manual which is no longer necessary due to changes in Federal test methods.

III. What action is EPA taking?

We are publishing this direct final rule without a prior proposed rule because we view this as a noncontroversial amendment and anticipate no adverse comment because the revisions are largely administrative and consistent with Federal regulations. However, in the “Proposed Rules” section of today's Federal Register, we are publishing a separate document that will serve as the proposed rule to approve the SIP revision if adverse comments are received on this direct final rule. We will not institute a second comment period on this action. Any parties interested in commenting must do so at this time. For further information about commenting on this rule, see the ADDRESSES section of this document.

If EPA receives adverse comment, we will publish a timely withdrawal in the Federal Register informing the public that this direct final rule will not take effect. We will address all public comments in any subsequent final rule based on the proposed rule.

Please note that if EPA receives adverse comment on part of this rule and if that part can be severed from the remainder of the rule, EPA may adopt as final those parts of the rule that are not the subject of an adverse comment.

Statutory and Executive Order Reviews

Under Executive Order 12866 (58 FR 51735, October 4, 1993), this action is not a “significant regulatory action” and therefore is not subject to review under Executive Orders 12866 and 13563 (76 FR 3821, January 21, 2011). This action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). Thus Executive Order 13132 does not apply to this action. This action merely approves a state rule implementing a Federal standard, and does not alter the relationship or the distribution of power and responsibilities established in the CAA. This rule also is not subject to Executive Order 13045, “Protection of Children from Environmental Health Risks and Safety Risks” (62 FR 19885, April 23, 1997) because it approves a state rule implementing a Federal standard.

In reviewing SIP submissions, EPA's role is to approve state choices, provided that they meet the criteria of the CAA. In this context, in the absence of a prior existing requirement for the State to use voluntary consensus standards (VCS), EPA has no authority to disapprove a state submission for failure to use VCS. It would thus be inconsistent with applicable law for EPA when it reviews a state submission, to use VCS in place of a state submission that otherwise satisfies the provisions of the CAA. Thus, the requirements of section 12(d) of the National Technology Transfer and Advancement Act of 1995 (15 U.S.C. 272 note) do not apply. This action does not impose an information collection burden under the provisions of the Paperwork Reduction Act of 1995 (44 U.S.C. 3501 et seq.). Burden is defined at 5 CFR 1320.3(b).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register.

A major rule cannot take effect until 60 days after it is published in the Federal Register. This action is not a “major rule” as defined by 5 U.S.C. 804(2).

Under section 307(b)(1) of the CAA, petitions for judicial review of this action must be filed in the United States Court of Appeals for the appropriate circuit by March 17, 2014. Filing a petition for reconsideration by the Administrator of this final rule does not affect the finality of this rule for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the final rulemaking. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Administrative practice and procedure, Air pollution control, Intergovernmental relations, Operating permits, Reporting and recordkeeping requirements.

Dated: December 23, 2013.
Karl Brooks,
Regional Administrator, Region 7.

Chapter I, title 40 of the Code of Federal Regulations is amended as follows:

PART 52—APPROVAL AND PROMULGATION OF IMPLEMENTATION PLANS

1. The authority citation for part 52 continues to read as follows:

Authority: 42 U.S.C. 7401 et seq.

Subpart Q—Iowa

2. Section 52.820(c) is amended by revising entries for Chapter 20, 567-20.2; Chapter 22, 567-22.3; and Chapter 25, 567-25.1 to read as follows:

§ 52.820 Identification of plan.

* * * * *

(c) * * *

EPA-Approved Iowa Regulations
Iowa citation | Title | State effective date | EPA approval date | Explanation
Iowa Department of Natural Resources Environmental Protection Commission [567]
* * * * * * *
Chapter 20—Scope of Title-Definitions-Forms-Rule of Practice
* * * * * * *
567-20.2 | Definitions | 10/24/12 | 01/16/14 [insert Federal Register page number where the document begins] | The definitions for aerobic lagoon, odor, odorous substance, odorous substance and greenhouse gas, are not SIP approved.
* * * * * * *
Chapter 22—Controlling Pollution
* * * * * * *
567-22.3 | Issuing Permits | 10/24/12 | 01/16/14 [insert Federal Register page number where the document begins]
* * * * * * *
Chapter 25—Measurement of Emissions
567-25.1 | Testing and Sampling of New and Existing Equipment | 10/24/12 | 01/16/14 [insert Federal Register page number where the document begins]
* * * * * * *

* * * * *

PART 70—STATE OPERATING PERMIT PROGRAMS

3. The authority citation for Part 70 continues to read as follows:

Authority: 42 U.S.C. 7401 et seq.

4. Appendix A to Part 70 is amended by adding paragraph (o) under “Iowa” to read as follows:

Appendix A to Part 70—Approval Status of State and Local Operating Permits Programs

* * * * *

Iowa

* * * * *

(o) The Iowa Department of Natural Resources submitted for program approval revisions to 567-22.100(455B) to adopt by reference the definition of “EPA reference method”. Also adopted by reference is the revised version of the Title V “Periodic Monitoring Guidance” at 567-22.108. These revisions to the Iowa program are approved effective March 17, 2014.

* * * * *

[FR Doc. 2014-00656 Filed 1-15-14; 8:45 am]

BILLING CODE 6560-50-P